DEPARTMENT OF COMMERCE

National Oceanic and Atmospheric Administration

Federal Consistency Appeal by Broadwater Energy LLC and Broadwater Pipeline LLC

AGENCY: National Oceanic and Atmospheric Administration (NOAA), Department of Commerce.

ACTION: Notice of Stay—Closure of Administrative Appeal Decision Record.

SUMMARY: This announcement provides notice that the Department of Commerce has stayed, for a period of 60 days, closure of the decision record in an administrative appeal filed by Broadwater Energy LLC and Broadwater Pipeline LLC (collectively, Broadwater) under the Coastal Zone Management Act, 16 U.S.C. 1456 (hereinafter, Broadwater Federal Consistency Appeal).

DATES: The decision record for the Broadwater Federal Consistency Appeal will now close on February 13, 2009.

ADDRESSES: Materials from the appeal decision record will be available at the National Oceanic and Atmospheric Administration (NOAA), Office of General Counsel for Ocean Services, 1305 East-West Highway, Room 6111, Silver Spring, Maryland 20910, and on the following Web site: http://www.ogc.doc.gov/czma.htm.

FOR FURTHER INFORMATION CONTACT: Jamon L. Bollock, Attorney-Advisor, NOAA Office of General Counsel, at (301) 713-7393 or via e-mail at gcos.inquiries@noaa.gov.

SUPPLEMENTARY INFORMATION: On June 6, 2008, Broadwater filed notice of an appeal with the Secretary of Commerce (Secretary) pursuant to Section 307 of the Coastal Zone Management Act of 1972 (CZMA), 16 U.S.C. 1456, and NOAA's implementing regulations found at 15 CFR Part 930, Subpart H. Broadwater appealed an objection by the New York State Department of State (New York) to Broadwater's proposal to construct and operate a floating liquefied natural gas (LNG) terminal and associated pipeline, which would be located in the New York waters of Long Island Sound. The Secretary published a Notice of Appeal in the Federal Register on July 7, 2008.

Under the CZMA, the Secretary may override New York's objection on the grounds that the project is consistent with the objectives or purposes of the CZMA or otherwise necessary in the interest of national security. To make the determination that the proposed activity is “consistent with the objectives or purposes of the CZMA,” the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the coastal management program. 15 CFR 930.121.

The Secretary must close the decision record in a federal consistency appeal 160 days after the Notice of Appeal is published in the Federal Register. 15 CFR 930.130(a)(1). However, the CZMA authorizes the Secretary to stay closing the decision record for up to 60 days when the Secretary determines it necessary to receive, on an expedited basis, any supplemental information specifically requested by the Secretary to complete a consistency review or any clarifying information submitted by a party to the proceeding related to information in the consolidated record compiled by the lead Federal permitting agency. 15 CFR 930.130(a)(2), (3).

After reviewing the Broadwater Federal Consistency Appeal decision record developed to date, the Secretary has decided to solicit supplemental and clarifying information. In order to allow receipt of this information, the Secretary hereby stays closure of the decision record, currently scheduled to occur on December 15, 2008, until February 13, 2009.

Additional information about the Broadwater Federal Consistency Appeal and the CZMA appeal process is available on the Department of Commerce's CZMA Consistency Appeals Web site at http://www.ogc.doc.gov/czma.htm.

(Federal Domestic Assistance Catalog No. 11.419 Coastal Zone Management Program Assistance.)

Dated: December 10, 2008.
Joel La Bissonniere,
Assistant General Counsel for Ocean Services, NOAA.

[FR Doc. E8-29595 Filed 12-12-08; 8:45 am]

BILLING CODE 3510-22-P